DEPARTMENT OF HEALTH AND HUMAN SERVICES

National Institutes of Health

National Institute of Neurological Disorders and Stroke Amended Notice of Meeting

Notice is hereby given of a change in the meeting of the Neurological Sciences and Disorders C, October 17, 2013, 08:00 a.m. to October 18, 2013, 05:00 p.m., Mayflower Park Hotel, 405 Olive Way, Seattle, WA, 98101 which was published in the Federal Register on September 25, 2013, 78FRN59041.

The meeting date has been changed to December 3, 2013, to December 4, 2013. The meeting location has been changed to the Embassy Suites Alexandria-Old Town, 1900 Diagonal Rd., Alexandria, VA 22314. The meeting is closed to the public.

Dated: October 22, 2013.
Carolyn Baum,
Program Analyst, Office of Federal Advisory Committee Policy.

[FR Doc. 2013-25226 Filed 10-25-13; 8:45 am]

BILLING CODE 4140-01-P